DEPARTMENT OF HEALTH AND HUMAN SERVICES

Centers for Disease Control and Prevention

[60Day-02-08]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: CDC National AIDS and STD Hotline Caller Survey OMB No. 0920-0295—Revision—National Center for HIV, STD, and TB Prevention (NCHSTP), Division of HIV/AIDS Prevention, Intervention, Research, and Support, Technical Information and Communication Branch. The purpose of this request is to continue active and passive data collection from people who call the CDC National AIDS and Sexually Transmitted Disease (STD) Hotlines. The mission of the CDC National AIDS and STD Hotlines is to provide the general population of the United States, its territories, and Puerto Rico with highly visible and readily accessible resources for accurate and timely information on HIV/AIDS and other STDs. The CDC is seeking OMB approval for renewal of the data collection with one proposed change and one proposed system enhancement, both aimed at improving the management and evaluation of collected information.

The change is the ability of CDC to survey every 15th caller, instead of every 30th caller, to the hotlines. The information gathered will assist CDC in the improvement of HIV and STD services, particularly to high-risk populations. Before the integration of the National AIDS and STD Hotlines in 1998, every 15th caller was surveyed in the AIDS hotline, and every 30th caller was surveyed in the STD hotline.

The National AIDS Hotline responded to a maximum of 1.6 million calls per year during the 1980s and early 1990s. Throughout the period, the calls have decreased to approximately 650,000 calls per year due to changes such as treatment advances, a more knowledgeable audience, and access to information on the Internet. However, the number of callers selected for the survey has increased to assure that a substantial amount of data can be submitted to CDC regarding information about the callers who contact the hotline. Respondents (callers) will be the general public, and only the callers to the hotlines will be affected.

The enhancement to the data collection is the employment of a partially integrated system that will allow CDC Information Specialists to answer calls about HIV/AIDS and STDs using the same toll free telephone system. The telephone system will be designed to display telephone numbers for both the AIDS Hotline and the STD Hotline. Thus, when a caller contacts the hotline for AIDS information, the phone for the AIDS Hotline will appear on the caller ID. If the caller wants additional information about STDs, the same Information Specialist can respond to the call rather than requesting that the caller place a separate call to the STD Hotline. This process will also allow for an integrated data collection system for AIDS and STD caller information and service evaluation, as well as allow CDC to provide a more efficient and effective means of addressing the needs of its constituents.

In addition, since both hotlines will still retain their separate telephone numbers, the call volume can be monitored separately with distinct extrapolation of data. This integrated system began in August 2000. The integrated system also supports strategies in the CDC HIV Prevention Strategic Plan Through 2005, which also states that HIV prevention must be integrated with STD prevention.

Data will be collected on an active and passive basis for both hotlines. The active data collection method occurs while the caller is on the phone. It allows the Information Specialist to gather information about caller demographics such as age, race, ethnicity and education through a short survey administered at the conclusion of the call. The passive data collection instrument allows the Information Specialist to capture more specific information about the characteristics of the caller such as the callers primary topic for discussion, gender, level of concern of caller. The Information Specialist enters this information into a database once the call is completed.

To assist in completing the surveys and providing accurate data responses, the hotlines will be using the CDC Federal Telecommunications Service (FTS) 2001 telephone systems; call length data from the Integrated Information Program (IIP), which is a computer interface. The hotlines will also be using the Automated Call Distribution (ACD) program which allows the calls to be distributed to the correct numbers (AIDS or STD) and Symposium software which can assist the hotlines in several areas, including quickly (1) determining what happened to a call that may be in the queue,(2) compiling a geographic distribution table of all calls throughout the United States, including ages of callers,(3) and routing calls to the English, Spanish or TTY service.

For the AIDS and STD integrated English service, the estimated number of persons surveyed for the active survey is 34,520, and the average active survey length is 72 seconds with a yearly burden of 691 hours. It is estimated that passive surveys are completed on 29,420 calls, and the average passive survey length for completion is 179 seconds, with a yearly burden of 1,463 hours.

Active surveys for the Spanish service for the AIDS Hotline are estimated to be about 5,040 calls with an average active survey length of 88 seconds. The average number of passive surveys estimated for the Spanish service is 5,000. All callers are surveyed from the TTY service and one out of three callers are surveyed from the Spanish service. There is no cost to the respondents.

Respondents | Number of respondents | Number of responses/respondents | Avg Burden/response (in hours) | Total burden (in hours)
AIDS Hotline Calls/English | 21,760 | 1 | 1/60 | 363
AIDS Hotline Calls/Spanish | 5,040 | 1 | 2/60 | 168
AIDS Hotline Calls/TTY | 350 | 1 | 7/60 | 40
STD Hotline Calls/English | 12,760 | 1 | 1/60 | 212
Totals | 39,910 |  |  | 783

Dated: November 15, 2001.
John Moore,
Acting Associate Director for Policy, Planning and Evaluation, Centers for Disease Control and Prevention.

[FR Doc. 01-29050 Filed 11-20-01; 8:45 am]

BILLING CODE 4163-18-P